SECURITIES AND EXCHANGE COMMISSION

[File No. 500-1]

In the Matter of Quality Resorts of America, Inc., Quentra Networks, Inc., and Quokka Sports, Inc.; Order of Suspension of Trading

September 19, 2008.

It appears to the Securities and Exchange Commission that there is a lack of current and accurate information concerning the securities of Quality Resorts of America, Inc. because it has not filed any periodic reports since the period ended June 30, 1997.

It appears to the Securities and Exchange Commission that there is a lack of current and accurate information concerning the securities of Quentra Networks, Inc. because it has not filed any periodic reports since the period ended September 30, 2000.

It appears to the Securities and Exchange Commission that there is a lack of current and accurate information concerning the securities of Quokka Sports, Inc. because it has not filed any periodic reports since the period ended December 31, 2000.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on September 19, 2008, through 11:59 p.m. EDT on October 2, 2008.

By the Commission.
J. Lynn Taylor,
Assistant Secretary.

[FR Doc. E8-22373 Filed 9-19-08; 4:15 pm]

BILLING CODE 8010-01-P